DEPARTMENT OF TRANSPORTATION

Office of the Secretary

[Docket No. DOT-OST-2015-0235]

Privacy Act of 1974; Department of Transportation, Federal Aviation Administration, DOT/FAA-801; Aircraft Registration Records System of Records Notice

AGENCY: Office of the Departmental Chief Information Officer, Office of the Secretary of Transportation, DOT.

ACTION: Notice of Privacy Act system of records.

SUMMARY: In accordance with the Privacy Act of 1974, the United States Department of Transportation proposes to rename, update and reissue a current Department of Transportation system of records titled, “Department of Transportation Federal Aviation Administration; DOT/FAA-801, Aviation Registration System.” Given that this system of records is comprised of multiple electronic databases, we are changing the name from “Aviation Registration System” to “Aviation Registration Records” to reflect that the system of records includes all Privacy Act records related to aircraft registration that are maintained by the Federal Aviation Administration Aircraft Registration Branch. In addition, this system is being updated to clarify the purpose of the Aircraft Registration Records system of records, which maintains electronic records of aircraft registration, including registration forms and supporting documents, instruments affecting ownership, aircraft financing, leases, and lien interests, as well as airworthiness applications and major repair and alteration reports. This system also includes registration records for small unmanned aircraft used for hobby and recreational purpose (i.e., model aircraft) and unmanned aircraft and small unmanned aircraft used for commercial purposes. The system of records notice is also being updated to add categories of records and to remove duplicative routine uses and clarify the remaining routine uses. Finally, the authorities, record retention, safeguarding and storage procedures, and notification, record access, and contesting records sections have been updated to reflect changes since the last publication of the system of records notice in 2000.

DATES: Written comments should be submitted on or before January 14, 2016. The Department may publish an amended Systems of Records Notice in light of any comments received. This new system will be effective January 14, 2016.

ADDRESSES: You may submit comments, identified by docket number DOT-OST-2015-0235 by any of the following methods:

• Federal e-Rulemaking Portal: http://www.regulations.gov. Follow the instructions for submitting comments.

• Mail: Docket Management Facility, U.S. Department of Transportation, 1200 New Jersey Ave. SE., West Building Ground Floor, Room W12-140, Washington, DC 20590-0001.

• Hand Delivery or Courier: West Building Ground Floor, Room W12-140, 1200 New Jersey Ave. SE., between 9 a.m. and 5 p.m. ET, Monday through Friday, except Federal Holidays.

• Fax: (202) 493-2251.

Instructions: You must include the agency name and docket number DOT-OST-2015-0235. All comments received will be posted without change to http://www.regulations.gov, including any personal information provided.

Privacy Act: Anyone is able to search the electronic form of all comments received in any of our dockets by the name of the individual submitting the comment (or signing the comment, if submitted on behalf of an association, business, labor union, etc.). You may review the Department of Transportation's complete Privacy Act statement in the Federal Register published on April 11, 2000 (65 FR 19477-78), or you may visit http://DocketsInfo.dot.gov.

Docket: For access to the docket to read background documents or comments received, go to http://www.regulations.gov or to the street address listed above. Follow the online instructions for accessing the docket.

FOR FURTHER INFORMATION CONTACT: For questions, please contact: Claire W. Barrett, Departmental Chief Privacy Officer, Privacy Office, Department of Transportation, Washington, DC 20590; privacy@dot.gov; or 202.527.3284.

SUPPLEMENTARY INFORMATION:

I. Background

In accordance with the Privacy Act of 1974, 5 U.S.C. 552a, the Department of Transportation (DOT)/Federal Aviation Administration (FAA) proposes to rename, update and reissue a DOT system of records titled, “DOT/FAA-801 Aviation Registration System.” The Department is establishing a streamlined, Web-based aircraft registration process for small unmanned aircraft systems. Owners of sUAS, however, may opt to register their sUAS through the existing paper-based process used to register manned aircraft in accordance with the procedures and requirements described in 14 CFR part 47 (the “part 47”). Also, owners of unmanned aircraft systems (UASs) that do not qualify as sUAS must continue to comply with part 47 and register their aircraft through the paper-based process.

All sUAS owners who register their aircraft under part 48 must first create an account to access the Web-based application using their email address and a password. Once an account is created, sUAS owners register their aircraft by providing their name, mailing address, and physical address, if different from their mailing address. These applicants also may provide their telephone number. Those who register their sUAS under part 48 may have to submit additional information, depending on the intended use for the sUAS. Individuals intending to fly sUAS for commercial purposes (as well as Federal, State, and local governments and corporations) are required to include their telephone number, and sUAS make, model, and serial number with their application.

Under part 48, each sUAS (hereinafter “model aircraft”) owner registering for hobby and recreational purposes will receive a unique identifier for use on all model aircraft registered by that owner. Each sUAS used for non-model aircraft operations (e.g., commercial use) will be assigned a unique identifier only for use with that aircraft. These registrants also must provide their credit card information (e.g., credit card number, expiration date, security code, and billing address) for payment of the registration fee. The FAA will assign a transaction identification number (ID) upon confirmation of payment.

For all other aircraft required to be registered with the FAA, the FAA will continue to use the existing paper-based registration process under part 47. Applicants for aircraft registration must provide the FAA with their aircraft's manufacturer name, model, and serial number, the registered owner's contact information (name and physical address). Applicants must also provide any documents affecting aircraft ownership, loan, lien, or lease interests.

All records maintained by the FAA in connection with aircraft registered are included in the Aircraft Registry and made available to the public, except email address and credit card information submitted under part 48.

In order to facilitate implementation of the streamlined alternative registration process for small unmanned aircraft, the system of records notice (SORN) for the Aviation Registration System is being updated. Additionally, the SORN is being renamed, and updated to more accurately reflect and provide greater transparency regarding the collection, use, sharing, and maintenance of Privacy Act records in the Aircraft Registration system as a whole.

Because sUAS registered under part 48 have different registration requirements than aircraft registered under part 47, the categories of records has been updated to reflect the addition of email address and credit card information for registrants who register under part 48. The collection of email addresses will enable the FAA to establish user accounts for the FAA UAS Registration Service to facilitate access, and to quickly disseminate safety and educational materials to these sUAS owners, in furtherance of the FAA's safety and education objectives for unmanned aircraft operations. In addition, registrants under part 48 must pay the Aircraft Registration Fee as part of the online application process, thus, the SORN is being updated to include credit card information in the categories of records.

Additionally, we are renaming the system to “Aviation Registration Records.” Aviation Registration Records are maintained in several electronic databases. We are changing the name to clarify that the system of records includes all Privacy Act records related to aircraft registration that are maintained by the FAA Aircraft Registration Branch. Further, in the authorities section, we removed the reference to 49 U.S.C. 40101, which states the policy objectives that underlie DOT and FAA administration of the aviation-related provisions in Title 49 of the United States Code, but do not specifically authorize this system.

We also consolidated the routine uses and revised the remainder for clarity. Under the Privacy Act, “routine use” refers to a disclosure of the information in the system to a person or entity outside of the DOT/FAA, “for a purpose which is compatible with the purposes for which it is collected.” 5 U.S.C. 552a(a)(7). The routine uses, as they have appeared in the SORN for several decades, describe several purposes of disclosure from the Aircraft Registry. These routine uses, however, did not specifically describe what information may be disclosed and to whom information may be disclosed. Thus, we are updating the routine uses to clarify that Aircraft Registry data is available to the general public through the FAA's Web site, or in person at or by written request to the Aircraft Registration Branch. The Aircraft Registry also may be accessed by federal, state, local, or foreign law enforcement to support investigations, the National Transportation Safety Board in connection with accident investigations, title search companies and banks to determine legal ownership of an aircraft, aircraft manufactures to provide aircraft owners and operators with information about potential mechanical defects or unsafe conditions of their aircraft, lawyers and parties to litigation in support of court cases involving individual liability, the International Civil Aviation Organization and its members to verify aircraft ownership and country of registration, or others. Thus, we consolidated and revised the routine uses to reflect that Aircraft Registry data is publicly available, which also includes access to information from the Aircraft Registry by other government entities, companies, and international organizations. All aircraft registration information for manned aircraft, UAS, and sUAS registered under part 47 are accessible to the public through the public Aircraft Registry Web site at http://registry.faa.gov/aircraftinquiry/. As previously mentioned, email addresses, telephone number, and credit card information of sUAS owners registered under part 48 will not be available to the public and will only be disclosed in accordance with the General Routine Uses applicable to all of the Department's systems of records. Additionally, the public may only retrieve model aircraft owners' name and address in the publicly available Aircraft Registry by the aircraft registration number (i.e., the public may not retrieve data by an owner's name or address). Finally, we are adding a routine use clarifying that the FAA may disclose any aircraft registration information to law enforcement entities, when necessary and relevant to a FAA enforcement activity. These revisions to the routine uses do not substantively change the current routine uses for aircraft registration records. Relatedly, we revised the purpose section to include provisions reflecting the purpose of the system that had previously been captured as part of the routine uses.

Finally, we updated the sections on storage, record retention, and safeguarding procedures to reflect changes since the last publication of the SORN in 2000. Since 2000, the FAA began digitally imaging paper files for electronic storage and retrieval and the SORN section on storage was revised accordingly. The record retention provision was updated to make it consistent with the record retention section approved by the National Archive and Records Administration (NARA) in 2005. This update was inadvertently omitted from the Department's 2010 update to this SORN. The current record retention schedule, as approved in 2005, declared all records in the Aircraft Registration System to be of permanent value. The Department is currently evaluating whether registration records received under part 48, in particular, or UAS registration records, more generally, should similarly be retained permanently, or if an alternate schedule is more appropriate. This is also reflected in this updated SORN. Lastly, the notification, records access, and contesting records procedures have been revised for additional clarity regarding FAA redress policies and procedures.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information).

In accordance with 5 U.S.C. 552a(r), DOT has provided a report of this system of records to the Office of Management and Budget and to Congress.

SYSTEM OF RECORDS

Department of Transportation (DOT)/FAA—801

SYSTEM NAME:

Department of Transportation (DOT)/ALL—801, Aircraft Registration Records

SECURITY CLASSIFICATION:

Unclassified, sensitive.

SYSTEM LOCATION:

Aircraft Registration Branch, Federal Aviation Administration, Mike Monroney Aeronautical Center, Oklahoma City, OK 73125.

FAA UAS Registration Service is a contractor managed system and the records are located by the contract manager: Aircraft Registration Branch, Federal Aviation Administration, Mike Monroney Aeronautical Center, Oklahoma City, OK 73125.

CATEGORIES OF INDIVIDUALS COVERED BY THE SYSTEM:

Aircraft owners, lien holders, and lessees.

CATEGORIES OF RECORDS IN THE SYSTEM:

Aircraft Registration Numbers; Aircraft manufacturer name, model, serial numbers Registered owner name, address, email, telephone number; Registration Information: (status: pending, valid, expired, canceled; type of ownership: individual, partnership, corporate, government, co-owned; dates: registration and expiry; airworthiness: type, status, date); Aircraft registration documents; Instruments affecting aircraft ownership, loan, lien, or lease interests; Applications for airworthiness; Major repair and alteration reports; Register owner credit card information (FAA UAS Registration Service user only).

AUTHORITY FOR MAINTENANCE OF THE SYSTEM:

i. 49 U.S.C. 44102, Registration requirements

ii. 49 U.S.C. 44103, Registration of aircraft

iii. 49 U.S.C. 44104, Registration of aircraft components and dealer's certificates of registration

iv. 49 U.S.C. 44105, Suspension and revocation of aircraft certificates

v. 49 U.S.C. 44106, Revocation of aircraft certificates for controlled substance violations

vi. 49 U.S.C. 44107, Recordation of conveyances, leases, and security instruments

vii. 49 U.S.C. 44110, Information about aircraft ownership and rights

viii. 49 U.S.C. 44111, Modifications in registration and recordation system for aircraft not providing air transportation

ix. 14 CFR parts 45, 47-49

PURPOSE(S):

Provide a register of United States civil aircraft to aid in the national defense and to support a safe and economically strong civil aviation system, and to meet treaty requirements under the Convention on International Civil Aviation, Annex 7. To determine that aircraft are registered in accordance with the provisions of 49 U.S.C. 44103. To support FAA safety programs and agency management. To aid law enforcement and aircraft accident investigations. To serve as a repository of legal documents to determine legal ownership of aircraft. Provide aircraft owners and operators information about potential mechanical defects or unsafe conditions of their aircraft in the form of airworthiness directives. Educate owners regarding safety requirements for operation. Receive and record payment of aircraft registration fee.

ROUTINE USES OF RECORDS MAINTAINED IN THE SYSTEM, INCLUDING CATEGORIES OF USERS AND THE PURPOSES OF SUCH USES:

In addition to other disclosures generally permitted under 5 U.S.C. 552a(b) of the Privacy Act, all or a portion of the records or information contained in this system may be disclosed outside DOT as a routine use pursuant to 5 U.S.C. 552a(b)(3) as follows:

1. To the public (including government entities, title companies, financial institutions, international organizations, FAA designee airworthiness inspectors, and others) information through the Aircraft Registry, including aircraft owner's name, address, United States Registration Number, aircraft type, and legal documents related to title or financing. Email addresses, credit card information, and sUAS owners' telephone numbers will not be disclosed pursuant to this Routine Use. The public may only retrieve the name and address of owners of sUAS registered under 14 CFR part 48 by the unique identifier displayed on the aircraft.

2. To law enforcement, when necessary and relevant to a FAA enforcement activity.

3. The Department has also published 15 additional routine uses applicable to all DOT Privacy Act systems of records, including this system. These routine uses are published in the Federal Register at 75 FR 82132, December 29, 2010, and 77 FR 42796, July 20, 2012, under “Prefatory Statement of General Routine Uses” (available at http://www.transportation.gov/privacy/privacyactnotices).

DISCLOSURE TO CONSUMER REPORTING AGENCIES:

None.

POLICIES AND PRACTICES FOR STORING, RETRIEVING, ACCESSING, RETAINING, AND DISPOSING OF RECORDS IN THE SYSTEM: STORAGE:

Individual records for registered and canceled aircraft are maintained in an electronic digital image system. Some canceled aircraft records are stored as paper file folders until their conversion to digital images is completed. Backup copies of imaged records are stored at remote locations

RETRIEVABILITY:

Records of registered and cancelled aircraft in the digital image system may be retrieved by registration number, the manufacturer's name, model, and serial-number, credit card transaction number, and by the name of the current registered owner. Records are retrieved by the aircraft description. Unconverted canceled records may be retrieved using a former registration number and the manufacturer's name, model and serial-number.

SAFEGUARDS:

Records in this system are safeguarded in accordance with applicable rules and policies, including all applicable DOT automated systems security and access policies. Strict controls have been imposed to minimize the risk of compromising the information that is being stored. Access to the computer system containing the records in this system is limited to individuals who have a need to know the information for the performance of their official duties and who have appropriate clearances or permissions.

RETENTION AND DISPOSAL:

Aircraft registration records submitted under 14 CFR part 47 have been deemed by the National Archives and Records Administration to be of permanent value (see NARA Schedule N1-237-04-3). Paper copies of registration submissions are destroyed once the original is scanned into the system and the digital image is determined to be an adequate substitute for paper records. Copies of the Aircraft Registration system are transferred to NARA on an annual basis.

The FAA is working with NARA to establish an appropriate retention period for aircraft registration records submitted under 14 CFR part 48. Consistent with the Federal Records Act, the FAA will manage these records as permanent records under NARA has determined their historical value and issued an approved records disposition schedule.

SYSTEM MANAGER(S) AND ADDRESS:

Manager, Aircraft Registration Branch, AFS-750, Federal Aviation Administration, Mike Monroney Aeronautical Center, P.O. Box 25082, Oklahoma City, OK 73125.

NOTIFICATION PROCEDURE:

Same as “System manager.”

RECORD ACCESS PROCEDURES:

Same as “System manager.”

CONTESTING RECORD PROCEDURES:

Same as “System manager.”

RECORD SOURCE CATEGORIES:

Individuals, manufacturers of aircraft, maintenance inspectors, mechanics, and FAA officials. All forms associated with this system and subject to the Paperwork Reduction Act have been approved by the Office of Management and Budget under the referenced information collection request/OMB control number 2120-0042.

EXEMPTIONS CLAIMED FOR THE SYSTEM:

None.

Issued in Washington, DC on December 11, 2015.
Claire W. Barrett,
Departmental Chief Privacy Officer.

[FR Doc. 2015-31647 Filed 12-14-15; 8:45 am]

BILLING CODE 4910-62-P